DEPARTMENT OF AGRICULTURE

Public Availability of FY 2011 Service Contract Inventories

AGENCY: Office of Procurement and Property Management, Departmental Management, Department of Agriculture.

ACTION: Notice of public availability of FY 2011 Service Contract inventories.

SUMMARY: In accordance with Section 743 of Division C of the Consolidated Appropriations Act of 2010 (Pub. L. 111-117), Department of Agriculture is publishing this notice to advise the public of the availability of the FY 2011 Service Contract inventory. This inventory provides information on service contract actions over $25,000 that were made in FY 2011. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/servicecontract-inventories-guidance-11052010.pdf. Department of Agriculture has posted its inventory and a summary of the inventory on the Office of Procurement and Property Management homepage at the following link: http://www.dm.usda.gov/procurement/.

FOR FURTHER INFORMATION CONTACT: Al Muñoz, Office of Procurement and Property Management, at (202) 720-1273 or by mail at OPPM, MAIL STOP 9304, U.S. Department of Agriculture, 1400 Independence Avenue SW., Washington, DC 20250-9303. Please cite “2011 Service Contract Inventory” in all correspondence.

Signed in Washington, DC, on February 10, 2012.
Lisa M. Wilusz,
Director, Office of Procurement and Property Management.

[FR Doc. 2012-3708 Filed 2-16-12; 8:45 am]

BILLING CODE 3410-98-P